DEPARTMENT OF TRANSPORTATION

Federal Aviation Administration

Orders Limiting Scheduled Operations at John F. Kennedy International Airport and Newark Liberty International Airport

AGENCY: Federal Aviation Administration (FAA), DOT.

ACTION: Notice of limited waiver of the slot usage requirement.

SUMMARY: This action announces a limited waiver of the requirements to use Operating Authorizations (slots) at John F. Kennedy International Airport (JFK) and Newark Liberty International Airport (EWR). The FAA will treat as used any Operating Authorization that was scheduled for an operation between JFK or EWR and points in Europe from April 14 through April 26, 2010. The FAA also will grant similar relief on an individual carrier basis following notification for scheduled flights between JFK or EWR and points in Europe canceled due to volcanic ash from April 27 through October 30, 2010. This policy is effective from April 14, 2010 through October 30, 2010.

DATES: Effective Date: Effective upon publication.

FOR FURTHER INFORMATION CONTACT: Robert Hawks, Office of the Chief Counsel, Regulations Division, Federal Aviation Administration, 800 Independence Avenue, SW., Washington, DC 20591; telephone: (202) 267-7143; e-mail: rob.hawks@faa.gov.

SUPPLEMENTARY INFORMATION:

Background

On April 14, 2010, an eruption of the Eyjafjallajökull volcano in Iceland began releasing large quantities of volcanic ash into the air. The resulting volcanic ash cloud spread over a large area of Europe before dissipating. The volcanic ash cloud resulted in widespread airspace restrictions and grounding of aircraft across much of Europe due to safety concerns. Air carriers responded by canceling tens of thousands of flights during an approximately one-week period. Airspace restrictions were relaxed as the volcanic ash cloud dissipated, and most European airspace restrictions were lifted by the evening of April 20. Recovery of normal operations took several days but appeared to return normal at all airports by April 27.

Although volcanic ash did not affect aircraft operation within U.S. airspace, the flight cancellations impacted U.S. airports that serve as international gateways, including slot-controlled JFK and EWR. U.S. and foreign carriers canceled transatlantic operations due to airspace closures and had to reposition aircraft before resuming scheduled operations after airspace reopened.

After the April airspace closures, volcanic ash has caused intermittent European airspace and airport closures resulting in transatlantic flight cancellations, but these closures have been limited in scope and duration. The Eyjafjallajökull volcano is predicted to continue erupting over the next several months, and volcanic ash may disrupt aircraft operations throughout this period.

By letter dated May 17, 2010, Continental Airlines has asked the FAA to grant a limited waiver of the minimum usage requirement at EWR through the summer scheduling season ending on October 30, 2010, due to the highly unusual and unpredictable nature of airspace and airport closures.

Under the orders limiting scheduled operations at the airports, slots must be used at least 80 percent of the time. Slots not meeting the minimum usage rules will be withdrawn.¹ The FAA may grant a waiver from the minimum usage requirements in highly unusual and unpredictable conditions that are beyond the control of the carrier and affect carrier operations for a period of five or more consecutive days.

¹ 74 FR 51648 (Oct. 7, 2009) (EWR); 74 FR 51650 (Oct. 7, 2009) (JFK).

Statement of Policy

The FAA has determined these unusual circumstances meet the criteria for a limited waiver of the minimum slot usage. The FAA does not intend to routinely grant general waivers to the usage requirements. Rules allow for up to 20 percent nonuse, including planned and unplanned cancellations. These rules are expected to accommodate routine weather and other cancellations under all but the most unusual circumstances.

Accordingly, the FAA will grant relief from the use-or-lose requirements for all carriers operating scheduled flights at JFK and EWR to or from points in Europe during the period from April 14 through 26, 2010. The FAA will treat as used any Operating Authorization that was scheduled for an operation between JFK or EWR and points in Europe from April 14 through April 26, 2010. Additionally, the FAA recognizes some carriers have canceled scheduled flights between JFK or EWR and points in Europe since April 26, and further ash-related cancellations may occur over the coming months. The FAA will grant similar relief on an individual carrier basis for scheduled flights between JFK or EWR and points in Europe canceled due to volcanic ash after April 26. Carriers should advise the FAA Slot Administration Office of volcanic-ash-related cancellations by e-mail to 7-awa-slotadmin@faa.gov to obtain relief. The FAA may revise this policy if there are widespread or long-term impacts similar to the April airspace closures.

Issued in Washington, DC, on June 5, 2010.
Rebecca B. MacPherson,
Associate Chief Counsel for Regulations.

[FR Doc. 2010-13994 Filed 6-9-10; 8:45 am]

BILLING CODE 4910-13-P